DEPARTMENT OF HOMELAND SECURITY

Transportation Security Administration

Reports, Forms, and Record Keeping Requirements: Agency Information Collection Activity Under OMB Review; Security Programs for Indirect Air Carriers

AGENCY: Transportation Security Administration (TSA), DHS.

ACTION: Notice.

SUMMARY: This notice announces that TSA has forwarded the Information Collection Request (ICR) abstracted below to the Office of Management and Budget (OMB) for review and clearance of an extension of the currently approved collection under the Paperwork Reduction Act. The ICR describes the nature of the information collection and its expected burden. TSA published a Federal Register notice, with a 60-day comment period soliciting comments, of the following collection of information on December 20, 2002.

DATES: Send your comments by June 16, 2003. A comment to OMB is most effective if OMB receives it within 30 days of publication.

ADDRESSES: Address your comments to the Office of Information and Regulatory Affairs, Office of Management and Budget, 725 17th Street, NW., Washington, DC 20503, Attention: DOT-TSA Desk Officer.

FOR FURTHER INFORMATION CONTACT: Rafael H. Ramos, Aviation Operations, Transportation Security Administration HQ, West Tower, Floor 11, TSA-7, 400 Seventh Street, SW., Washington, DC 20590-0001; telephone (571) 227-2227; facsimile (571) 227-1947; e-mail rafael.ramos1@dhs.gov.

SUPPLEMENTARY INFORMATION:

Transportation Security Administration (TSA)

Title: Indirect Air Carrier Security.

Type of Request: Extension of a currently approved collection.

OMB Control Number: 1652-0004.

Forms(s): NA.

Affected Public: A total of 3,760 Indirect Air Carriers.

Abstract: This rule prescribes aviation security rules governing each person (including air freight forwarder and any cooperative shippers' association) engaged, or who intends to be engaged indirectly in the air transportation of package cargo that is intended for carriage aboard a passenger-carrying air carrier aircraft inside the United States.

Estimated Annual Burden Hours: An estimated 1,323 hours annually.

TSA is soliciting comments to—

(1) evaluate whether the proposed information requirement is necessary for the proper performance of the functions of the agency, including whether the information will have practical utility;

(2) evaluate the accuracy of the agency's estimate of the burden;

(3) enhance the quality, utility, and clarity of the information to be collected; and

(4) minimize the burden of the collection of information on those who are to respond, including through the use of appropriate automated, electronic, mechanical, or other technological collection techniques or other forms of information technology.

Issued in Arlington, Virginia, on May 8, 2003.
Susan T. Tracey,
Deputy Chief Administrative Officer.

[FR Doc. 03-12214 Filed 5-15-03; 8:45 am]

BILLING CODE 4910-62-P